DEPARTMENT OF HOUSING AND URBAN DEVELOPMENT

[Docket No. FR-4560-N-09]

Notice Concerning Use of Remaining Unobligated Funds Under HUD's Designated Housing and Certain Developments Funding Availability Announcements

AGENCY: Office of the Assistant Secretary for Public and Indian Housing, HUD.

ACTION: Notice.

SUMMARY: On February 24, 2000, HUD published its Fiscal Year 2000 Super Notice of Funding Availability (SuperNOFA) for HUD's Housing, Community Development, and Empowerment Programs and Section 8 Housing Voucher Assistance. The Fiscal Year 2000 SuperNOFA included three funding availability announcements for Section 8 voucher assistance for persons with disabilities. HUD advised that any funds remaining unobligated under two of the Section 8 voucher programs would be used to fund applications for the third program. This document notifies the public that HUD now intends to use a portion of these remaining unobligated funds to provide vouchers to non-elderly persons with disabilities who are seeking to move from nursing homes and other institutional settings to housing in their local communities. Availability of voucher assistance for this purpose will be the subject of a separate Federal Register notice.

DATES: The application due dates for funding under the three programs in the Supplementary Information section of this notice have passed, and the application periods are closed. This notice does not reopen the application process for any of the three programs.

FOR FURTHER INFORMATION: You may contact George C. Hendrickson, Housing Program Specialist, Office of Public and Assisted Housing Delivery, Department of Housing and Urban Development, Room 4216, 451 Seventh Street, SW, Washington, DC 20410-8000; telephone (202) 708-1872, ext. 4064. (The number listed above is not a toll-free number). Persons with hearing or speech impairments may access this number via TTY (text telephone) by calling the Federal Information Relay Service at 1-800-877-8339 (this is a toll-free number).

SUPPLEMENTARY INFORMATION:

Background

On February 24, 2000 (65 FR 9322), HUD published its Fiscal Year 2000 Super Notice of Funding Availability (FY 2000 SuperNOFA) for HUD's Housing, Community Development, and Empowerment Programs and Section 8 Housing Voucher Assistance. The FY 2000 SuperNOFA included announcements of funding availability under the following three programs: Mainstream Housing Opportunities for Persons with Disabilities (Mainstream Housing) (65 FR 9963); Rental Assistance for Non-Elderly Persons with Disabilities Related to Certain Types of Section 8 Project-Based Developments and Section 202, 221(d) and 236 Developments (Certain Developments) (65 FR 9975); and Rental Assistance for Non-Elderly Persons with Disabilities in Support of Designated Housing Plans (Designated Housing) (65 FR-9985). ¹

¹ A correction of error was also published in the Federal Register for the Mainstream Housing Program on June 10, 2000, at 65 FR 37994.

In the funding availability announcements for Certain Developments and Designated Housing, HUD advised that any funds remaining unobligated under these two programs, as provided in the funding availability announcements for these two programs, would be used to fund applications from public housing agencies (PHAs) under the Mainstream Housing program (see 65 FR 9977, column three, and 65 FR 9986, column three, respectively).

This Notice

This notice advises that HUD now intends to use a portion of the funds remaining unobligated under Certain Developments and Designated Housing to fund vouchers solely for those non-elderly persons with disabilities who are seeking to move from nursing homes and other institutional settings to housing in their local communities. HUD intends to make available approximately $2.5 million to fund 400 vouchers for this initiative.

HUD will publish a separate notice in the Federal Register to announce this initiative. The Federal Register notice to be published will identify the basic policy and design of the initiative, the PHAs selected by HUD to participate in this initiative, and the criteria used to select the PHAs.

Dated: August 2, 2000.
Harold Lucas,
Assistant Secretary for Public and Indian Housing.

[FR Doc. 00-20253 Filed 8-9-00; 8:45 am]

BILLING CODE 4210-33-P